GENERAL SERVICES ADMINISTRATION

[Notice-PBS-2019-03; Docket No. 2019-0002; Sequence No. 5]

Notice of Availability of the Draft Environmental Impact Statement for the Expansion and Modernization of the San Luis I Land Port of Entry, San Luis, Arizona

AGENCY: Public Buildings Service, (PBS), General Services Administration (GSA).

ACTION: Notice of availability; Announcement of public meeting.

SUMMARY: This notice announces the availability, and opportunity for public review and comment, of the Draft Environmental Impact Statement (DEIS), which analyzes the potential environmental impacts of a proposal by GSA to expand and modernize the San Luis I Land Port of Entry (LPOE) located in San Luis, Arizona along the U.S.-Mexico international border. The DEIS describes the project purpose and need, the alternatives being considered, and the potential impacts of each alternative on the existing environment. As the lead agency for this undertaking, GSA is acting on behalf of its major tenant at the facility, the Department of Homeland Security's U.S. Customs and Border Protection (CBP).

DATES: A public meeting for the DEIS will be held on Wednesday, April 17, 2019, from 4:00 p.m. to 6:00 p.m., Mountain Standard Time (MST). Interested parties are encouraged to attend and provide written comments on the DEIS. The comment period for the DEIS ends on Monday, April 29, 2019.

ADDRESSES: The public meeting will be held in the City Council Chambers at 1090 E Union Street, San Luis, AZ. The meeting will be an informal open house, where visitors may come, receive information, and provide written comments.

Further information, including an electronic copy of the DEIS may be found online on the following website: https://www.gsa.gov/about-us/regions/welcome-to-the-pacific-rim-region-9/land-ports-of-entry/san-luis-i-land-port-of-entry.

Questions or comments concerning the DEIS should be directed to: Osmahn Kadri, Regional Environmental Quality Advisor/NEPA Project Manager, 50 United Nations Plaza, Room 3345 Mailbox 9, San Francisco, CA 94102 or via email to osmahn.kadri@gsa.gov.

FOR FURTHER INFORMATION CONTACT: Osmahn Kadri, Regional Environmental Quality Advisor/NEPA Program Manager, GSA, at 415-522-3617. Please also call this number if special assistance is needed to attend and participate in the public meeting.

SUPPLEMENTARY INFORMATION:

Background

The San Luis I LPOE is located on the U.S.-Mexico international border in the City of San Luis, Arizona. It is the westernmost LPOE in Arizona and is approximately four miles from the California border. The San Luis I LPOE was built in 1982 to accommodate noncommercial traffic to and from Mexico. The facilities at the LPOE are in a deteriorated condition and are inadequate for the present volume of pedestrian and vehicle traffic. There has been a 58 percent increase in the number of personal vehicles processed since 2010. The higher volume and outdated facilities create long wait times, leading to traffic backups in downtown San Luis.

GSA is proposing to expand and modernize the San Luis I LPOE to correct operational deficiencies imposed by deteriorating building conditions and improve the LPOE's functionality, capacity, and security. Three alternatives, the Proposed Action Alternative, Alternative 1, and the No Action Alternative, are evaluated in the DEIS.

Proposed Action Alternative—Demolition and Redevelopment. GSA would acquire the land adjacent to the western end of the LPOE, the former Friendship Park, and the LPOE would be reconfigured to streamline CBP operations and inspection processes. GSA would demolish the old, deteriorated buildings and construct new buildings and infrastructure on the expanded site to accommodate the increasing volume of pedestrian and vehicle traffic. The Proposed Action would be implemented in a phased approach to alleviate potential disruptions to operations at the LPOE.

Alternative 1—Renovate and Modernize. GSA would not acquire former Friendship Park, but would renovate and modernize all existing facilities and infrastructure at the LPOE. The LPOE layout would remain as currently configured, and current traffic patterns entering and leaving the LPOE would remain the same.

No Action Alternative. GSA would not renovate or modernize any portion of the LPOE. The LPOE would remain as-is and continue its operations in facilities as they are currently configured.

Public Meeting

The meeting will be conducted in an open house format, where project information will be presented and distributed. Comments must be received by April 29, 2019, and emailed to osmahn.kadri@gsa.gov, or sent to the address listed above.

Dated: March 13, 2019.
Moonyeen Alameida,
Acting Director, Portfolio Management Division, Pacific Rim Region, Public Buildings Service.

[FR Doc. 2019-04985 Filed 3-15-19; 8:45 am]

BILLING CODE 6820-YF-P